DEPARTMENT OF STATE

[Public Notice 10548]

Notice of Determinations; Culturally Significant Objects Imported for Exhibition—Determinations: “Victorian Radicals: From the Pre-Raphaelites to the Arts & Crafts Movement” Exhibition

SUMMARY: Notice is hereby given of the following determinations: I hereby determine that certain objects to be included in the exhibition “Victorian Radicals: From the Pre-Raphaelites to the Arts & Crafts Movement,” imported from abroad for temporary exhibition within the United States, are of cultural significance. The objects are imported pursuant to a loan agreement with the foreign owner or custodian. I also determine that the exhibition or display of the exhibit objects at the Oklahoma City Museum of Art, Oklahoma City, Oklahoma, from on or about October 11, 2018, until on or about January 6, 2019; at the Vero Beach Museum of Art, Vero Beach, Florida, from on or about February 9, 2019, until on or about May 5, 2019; at the Seattle Art Museum, Seattle, Washington, from on or about June 13, 2019, until on or about September 8, 2019; at the San Antonio Museum of Art, San Antonio, Texas, from on or about October 10, 2019, until on or about January 5, 2020; at the Yale Center for British Art, New Haven, Connecticut, from on or about February 13, 2020, until on or about May 10, 2020; at the Nevada Museum of Art, Reno, Nevada, from on or about June 20, 2020, until on or about September 13, 2020; at The Frick Pittsburgh, in Pittsburgh, Pennsylvania, from on or about October 29, 2020, until on or about January 24, 2021; and at possible additional exhibitions or venues yet to be determined, is in the national interest. I have ordered that Public Notice of these determinations be published in the Federal Register.

FOR FURTHER INFORMATION CONTACT: Elliot Chiu, Attorney-Adviser, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 236-14 of September 10, 2018.

Jennifer Z. Galt,
Principal Deputy Assistant Secretary for Educational and Cultural Affairs, Department of State.

[FR Doc. 2018-20210 Filed 9-17-18; 8:45 am]

BILLING CODE 4710-05-P